DEPARTMENT OF ENERGY

Federal Energy Regulatory Commission

[Docket Nos. IS01-504-002; IS03-74-001]

BP Transportation (Alaska) Inc.; Notice of Amendment Settlement

January 10, 2006.

Take notice that on December 13, 2005, The State of Alaska (Alaska) and BP Transportation (Alaska) Inc., (BPTA) jointly filed a request that the Commission approve the First Amendment to the Northstar Interstate Settlement (First Amendment) which Alaska and BPTA executed effective December 13, 2005. The First Amendment amends the Settlement Agreement, Northstar Oil Pipeline (NSA) dated May 14, 2003, between Alaska and BPTA, and provide that maximum rate for interstate and intrastate service will be calculated in the identical manner.

BPTA and Alaska entered the NSA and, the Commission approved the NSA on July 23, 2003, finding it to be in the public interest. BP Transportation (Alaska) Inc., 104 FERC ¶ 61,112 (2003).

Alaska and BPTA respectfully request that the Commission issue an order approving the First Amendment as in the public interest.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the date as indicated below. Anyone filing an intervention or protest must serve a copy of that document on the Applicant. Anyone filing an intervention or protest on or before the intervention or protest date need not serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible online at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on January 17, 2006.

Magalie R. Salas,
Secretary.

[FR Doc. E6-487 Filed 1-18-06; 8:45 am]

BILLING CODE 6717-01-P